DEPARTMENT OF HOMELAND SECURITY

Federal Emergency Management Agency

44 CFR Part 65

[Docket ID FEMA-2010-0003; Internal Agency Docket No. FEMA-B-1077]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Assistant Administrator for Mitigation reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street SW., Washington, DC 20472, (202) 646-2820.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and Case No. | Date and name of newspaper where notice was published | Chief executive officer of community | Effective date of modification | Community No.
California: Shasta | City of Shasta Lake (09-09-0170P) | July 20, 2009; July 27, 2009, Record Searchlight | Ms. Carol Martin, City Manager, City of Shasta Lake, P.O. Box 777, Shasta Lake, CA 96019 | July 10, 2009 | 060758
Colorado: El Paso | City of Colorado Springs (09-08-0556P) | July 8, 2009; July 15, 2009; El Paso County Advertiser and News | The Honorable Lionel Rivera, Mayor, City of Colorado Springs, 30 South Nevada Avenue, Colorado Springs, CO 80903 | June 30, 2009 | 080060
Maryland: Montgomery | Unincorporated areas of Montgomery County (09-03-0599P) | July 30, 2009; August 6, 2009; Montgomery County Sentinel | The Honorable Isiah Leggett, Montgomery County Executive, Executive Office Building, 101 Monroe Street, 2nd Floor, Rockville, MD 20850 | July 24, 2009 | 240049
Ohio: Lorain | City of Avon (08-05-2056P) | January 12, 2009; January 19, 2009; Morning Journal | The Honorable James A. Smith, Mayor, City of Avon, 36080 Chester Road, Avon, OH 44011 | December 31, 2008 | 390348
Oklahoma: Comanche | City of Lawton (08-06-1958P) | July 20, 2009; July 27, 2009; Lawton Constitution | The Honorable John Purcell, Mayor, City of Lawton, 3006 Northeast Muse Circle, Lawton, OK 72507 | July 15, 2009 | 400049
Texas: | Fort Bend | Unincorporated areas of Fort Bend County (09-06-1930P) | July 23, 2009; July 30, 2009; Fort Bend Sun | The Honorable Robert E. Hebert, PhD, Fort Bend County Judge, 301 Jackson Street, Richmond, TX 77469 | July 17, 2009 | 480228
Fort Bend | Fort Bend County L.I.D. #7 (09-06-1930P) | July 23, 2009; July 30, 2009; Fort Bend Sun | The Honorable Epifanio Salazar, Chairman, Board of Directors, Fort Bend County L.I.D. #7, 1300 Post Oak Boulevard, Suite 1400, Houston, TX 77027 | July 17, 2009 | 481594
Fort Bend | City of Sugarland (09-06-1930P) | July 23, 2009; July 30, 2009; Fort Bend Sun | The Honorable James A. Thompson, Mayor, City of Sugar Land, P.O. Box 110, Sugar Land, TX 77487 | July 17, 2009 | 480234
Travis | City of Pflugerville (09-06-0609P) | July 30, 2009; August 6, 2009; Austin American Statesman | The Honorable Jeff Coleman, Mayor, City of Pflugerville, P.O. Box 589, Pflugerville, TX 78691 | December 4, 2009 | 481028
Travis | Unincorporated areas of Travis County (09-06-0609P) | July 30, 2009; August 6, 2009; Austin American Statesman | The Honorable Samuel T. Biscoe, Travis County Judge, 314 West 11th Street, Suite 520, Austin, TX 78701 | December 4, 2009 | 481026
Webb | City of Laredo (08-06-2270P) | July 10, 2009; July 17, 2009; Laredo Morning Times | The Honorable Raul G. Salinas, Mayor, City of Laredo, 1110 Houston Street, Laredo, TX 78040 | November 16, 2009 | 480651
Webb | City of Laredo (08-06-2721P) | July 9, 2009; July 16, 2009; Laredo Morning Times | The Honorable Raul G. Salinas, Mayor, City of Laredo, 1110 Houston Street, Laredo, TX 78040 | November 10, 2009 | 480651
Webb | Unincorporated areas of Webb County (09-06-1293P) | August 4, 2009; August 11, 2009; Laredo Morning Times | The Honorable Danny Valdez, Webb County Judge, 1000 Houston Street, 3rd Floor, Laredo, TX 78040 | July 28, 2009 | 481059
Wisconsin: | Dane | Unincorporated areas of Dane County (09-05-0486P) | July 24, 2009; July 31, 2009; Wisconsin State Journal | The Honorable Kathleen M. Falk, Dane County Executive, City County Building, Room 118, 210 Martin Luther King Jr. Boulevard, Madison, WI 53703 | July 15, 2009 | 550077
Dane | Village of De Forest (09-05-0486P) | July 24, 2009; July 31, 2009; Wisconsin State Journal | The Honorable Jeff Miller, Village President, Village of De Forest, 306 De Forest Street, De Forest, WI 53532 | July 15, 2009 | 550082

(Catalog of Federal Domestic Assistance No. 97.022, “Flood Insurance.”)

Sandra K. Knight,
Deputy Assistant Administrator for Mitigation, Department of Homeland Security, Federal Emergency Management Agency.

[FR Doc. 2010-3428 Filed 2-22-10; 8:45 am]

BILLING CODE 9110-12-P